DEPARTMENT OF JUSTICE

Antitrust Division

Notice Pursuant to the National Cooperative Research and Production Act of 1993—Expeditionary Missions Consortium—Crane

Notice is hereby given that, on January 30, 2025, pursuant to section 6(a) of the National Cooperative Research and Production Act of 1993, 15 U.S.C. 4301 et seq. (“the Act”), Expeditionary Missions Consortium—Crane (“EMC²”) has filed written notifications simultaneously with the Attorney General and the Federal Trade Commission disclosing changes in its membership. The notifications were filed for the purpose of extending the Act's provisions limiting the recovery of antitrust plaintiffs to actual damages under specified circumstances.

Specifically, Aalyria Technologies, Inc., Livermore, CA; Achates LLC, Brownsburg, IN; AeroVironment, Inc., Simi Valley, CA; Airtronics LLC, Tuscon, AZ; American Lithium Energy Corporation, Carlsbad, CA; Arctech Charge LLC, Draper, UT; Authentise, Inc., Philadelphia, PA; BlueHalo Labs LLC, Albuquerque, NM; BlueSky Innovations Holdings, Inc., Largo, FL; CAMX Power LLC, Lexington, MA; Cellec Technologies, Inc., Henrietta, NY; Coherent Technical Services, Inc., Hollywood, MD; Divergent Technologies, Inc., Torrance, CA; DY4, Inc., Ashburn, VA; Eagle Harbor Solutions LLC, Anchorage, AK; Enercon Systems, Inc. dba Eco Waste Solutions, Batavia, NY; Fathom Robotics, Inc., Saco, ME; Giner, Inc., Newton, MA; Gravitics, Inc., Erie, CO; HavocAI, Inc., Providence, RI; IERUS Technologies, Huntsville, AL; Inkit Worldwide LLC, Guaynabo, PR; Innovative Automation Technologies LLC, Newberry, FL; Jaia Robotics, Inc., Bristol, RI; Katz Water Technologies, Inc., Houston, TX; L3 Harris Technologies (BCS), Salt Lake City, UT; LaminarEdge Aerospace LLC, Colorado Springs, CO; Leidos, Reston, VA; Leonardo Electronics U.S., Inc., Huntsville, AL; Liquid Robotics, Inc., Herndon, VA; Mainstream Engineering Corporation, Rockledge, FL; MAK Technologies, Cambridge, MA; Maplewell, Inc., Boulder, CO; Maritime Tactical Systems, Inc. dba MARTAC, Melbourne, FL; Merge Plot LLC, Bala Cynwyd, PA; Mountain Horse LLC, Colorado Springs, CO; Naycel Systems, Inc., Lake Mary, FL; Newton LLC, Riverdale, MD; Northrop Grumman Systems Corporation—Maryland, Linthicum Heights, MD; Ocean Specialists, Inc., Stuart, FL; OCR, Chantilly, VA; OptTek Systems, Inc., Boulder, CO; Orb Aerospace, Inc., Lowell, MI; Pacific Industrial Development Corp., Ann Arbor, MI; PacMar Technologies LLC, Honolulu, HI; Palantir USG, Inc. (“Palantir”), Palo Alto, CA; Programs Management Analytics & Technologies, Inc. (PMAT), Norfolk, VA; QinetiQ, US, Lorton, VA; RCT Systems, Inc., Baltimore, MD; Research Engineering and Development in Communications (REDCOM), Victor, NY; SEACORP LLC, Middletown, RI; SeaTrac Systems, Inc., Marblehead, MA; Skydweller US, Inc., Oklahoma City, OK; SpinQi LLC, North Bethesda, MD; Strategos Consulting LLC, Santee, CA; Systems Innovation Engineering LLC, Mullica Hill, NJ; TB2 Aerospace LLC, Breckenridge, CO; Textron Systems Corporation, Hunt Valley, MD; Versar, Inc., Washington, DC; and Walaris LLC, Peachtree Corner, GA; have been added as parties to this venture.

No other changes have been made in either the membership or planned activity of the group research project. Membership in this group research project remains open, and EMC² intends to file additional written notifications disclosing all changes in membership.

On January 11, 2024, EMC² filed its original notification pursuant to section 6(a) of the Act. The Department of Justice published a notice in the Federal Register pursuant to section 6(b) of the Act on March 13, 2024 (89 FR 18439).

The last notification was filed with the Department on October 9, 2024. A notice was published in the Federal Register pursuant to section 6(b) of the Act on December 20, 2024 (89 FR 104211).

Suzanne Morris,
Deputy Director Civil Enforcement Operations, Antitrust Division.

[FR Doc. 2025-03223 Filed 2-27-25; 8:45 am]

BILLING CODE P